DEPARTMENT OF LABOR

Employment and Training Administration

Employment and Training Administration Program Year (PY) 2011 Workforce Investment Act (WIA) Allotments to Outlying Areas

AGENCY: Employment and Training Administration, Labor.

ACTION: Notice.

SUMMARY: This Notice announces PY 2011 WIA Title I Youth, Adult and Dislocated Worker Activities program allotments for outlying areas. The WIA allotments for the outlying areas are based on a formula determined by the Secretary. As required by WIA section 182(d), on February 17, 2000, a Notice of the discretionary formula for allocating PY 2000 funds for the outlying areas (American Samoa, Guam, Marshall Islands, Micronesia, Northern Marianas, Palau, and the Virgin Islands) was published in the Federal Register at 65 FR 8236 (February 17, 2000). The rationale for the formula and methodology was fully explained in the February 17, 2000, Federal Register Notice. The formula for PY 2011 is the same as used for PY 2000 and is described in the section on Youth Activities program allotments. Comments are invited on the formula used to allot funds to the outlying areas.

DATES: Comments on the formula used to allot funds to the outlying areas must be received by July 5, 2011.

ADDRESSES: Submit written comments to the Employment and Training Administration, Office of Financial and Administrative Management, 200 Constitution Ave., NW., Room N-4702, Washington, DC 20210, Attention: Mr. Kenneth Leung, Telephone: (202) 693-3471 (this is not a toll-free number). Fax: (202) 693-2859. E-mail: Leung.Kenneth@dol.gov.

FOR FURTHER INFORMATION CONTACT: WIA Youth Activities allotments—Evan Rosenberg at (202) 693-3593 or LaSharn Youngblood at (202) 693-3606; WIA Adult and Dislocated Worker Activities allotments—Mike Qualter at (202) 693-3014; Workforce Information Grant allotments—Anthony Dais at (202) 693-2784.

SUPPLEMENTARY INFORMATION: The Department of Labor (DOL or Department) is announcing PY 2011 WIA Youth, Adult and Dislocated Worker program allotments to outlying areas. The allotments are based on the funds appropriated in the Full-Year Continuing Appropriations Act, 2011, Public Law 112-10, signed April 15, 2011. This appropriation requires an across-the-board rescission of 0.2 percent to all Federal Fiscal Year (FY) 2011 discretionary program funding. Included in this Notice are tables listing the PY 2011 allotments (including the 0.2 percent rescission) for programs under WIA Title I Youth Activities (Table A), Adult Activities (Table B) and Dislocated Worker Employment and Training Activities (Table C).

On December 17, 2003, Public Law 108-188, the Compact of Free Association Amendments Act of 2003 (“the Compact”), was signed. The Compact provided for consolidation of WIA Title I funding for the Marshall Islands and Micronesia into supplemental education grants provided from the Department of Education's appropriation. See 48 USC 1921d(f)(1)(B)(iii). The Compact also specified that the Republic of Palau remained eligible for WIA Title I funding. See 48 USC 1921d(f)(1)(B)(ix). The Consolidated Appropriations Act, 2010 (Pub. L. 111-117) (in the Department Of Education's General Provisions at Section 309, Title III, Division D) amended the Compact to extend the availability of WIA Title I funding to Palau through FY 2010. Section 1104 of the Full-Year Continuing Appropriations Act, 2011, further extended the same funding to Palau through FY 2011.

Youth Activities Allotments. PY 2011 Youth Activities funds for outlying areas total $2,064,785 (including the 0.2 percent rescission). Table A includes a breakdown of the Youth Activities program allotments for States (as previously shared) and each of the five outlying areas. Before determining the amount available for States, the total funding available for the outlying areas was reserved at 0.25 percent of the full amount appropriated for Youth Activities (after the 0.2 percent rescission).

The methodology for distributing funds to all outlying areas is not specified by WIA, but is at the Secretary's discretion. The methodology used is the same as used since PY 2000, i.e., funds are distributed among the remaining outlying areas by formula based on relative share of number of unemployed, a 90 percent hold-harmless of the prior year share, a $75,000 minimum, and a 130 percent stop-gain of the prior year share. As in PY 2010, data for the relative share calculation in the PY 2011 formula were from 2000 Census data for all outlying areas, obtained from the Bureau of the Census (Bureau) and are based on 2000 Census surveys for those areas conducted either by the Bureau or the outlying areas under the guidance of the Bureau.

Adult Employment and Training Activities Allotments. The total appropriated funds for PY 2011 for Adult Activities are $770,921,920 of which $1,927,305 is for outlying areas (including the 0.2 percent rescission). Table B includes a breakdown of the Adult Activities program allotments for States (as previously shared) and each of the five areas. Table B shows the PY 2011 Adult Employment and Training Activities allotments and comparison to PY 2010 allotments by State. Like the Youth Activities program, the total available for the outlying areas was reserved at 0.25 percent of the full amount appropriated for Adult Activities (after the 0.2 percent rescission). As discussed in the Youth Activities paragraph, beginning in PY 2005, WIA funding for the Marshall Islands and Micronesia is no longer provided; instead, funding is provided in the Department of Education's appropriation. The Adult Activities funds for grants to the remaining outlying areas, for which the distribution methodology is at the Secretary's discretion, were distributed among the areas by the same principles, formula and data as used for outlying areas for Youth Activities.

Dislocated Worker Employment and Training Activities Allotments. Appropriated funds for PY 2011 for the Dislocated Worker Activities program total $1,287,544,000, with $3,218,860 for outlying areas (including the 0.2 percent rescission). Table C includes a breakdown of the Dislocated Worker program allotments for States (as previously shared) and each of the five outlying areas. The total appropriation includes formula funds for the States, National Reserve funds for the distribution of National Emergency Grants, technical assistance and training, demonstration projects, and the outlying areas' Dislocated Worker allotments. Like the Youth and Adult Activities programs, the total available for the outlying areas was reserved at 0.25 percent of the full amount appropriated for Dislocated Worker Activities (after the 0.2 percent rescission). WIA funding for the Marshall Islands and Micronesia is no longer provided, as discussed above. The Dislocated Worker Activities funds for grants to outlying areas, for which the distribution methodology is at the Secretary's discretion, were distributed among the remaining areas by the same pro rata share as the areas received for the PY 2011 WIA Adult Activities program, the same methodology used in PY 2010.

Signed: At Washington, DC on this 27th day of May, 2011.
Jane Oates,
Assistant Secretary, Employment and Training Adminstration.

U.S. Department of Labor, Employment and Training Administration

Table A—WIA Youth Activities State Allotments
[Comparison of PY 2011 vs PY 2010]
State | PY 2010 | PY 2011 | Difference | Percent difference
Total | $924,069,000 | $825,913,862 | ($98,155,138) | −10.62
Alabama | 11,777,698 | 12,455,574 | 677,876 | 5.76
Alaska | 2,755,418 | 2,216,462 | (538,956) | −19.56
Arizona | 15,982,731 | 15,326,190 | (656,541) | −4.11
Arkansas | 8,446,520 | 6,794,393 | (1,652,127) | −19.56
California | 136,875,948 | 117,952,080 | (18,923,868) | −13.83
Colorado | 11,132,070 | 9,788,025 | (1,344,045) | −12.07
Connecticut | 8,869,254 | 8,060,872 | (808,382) | −9.11
Delaware | 2,269,744 | 2,028,651 | (241,093) | −10.62
District of Columbia | 2,779,082 | 2,402,872 | (376,210) | −13.54
Florida | 43,352,872 | 50,372,277 | 7,019,405 | 16.19
Georgia | 28,251,785 | 24,305,197 | (3,946,588) | −13.97
Hawaii | 2,690,193 | 2,272,811 | (417,382) | −15.51
Idaho | 2,950,667 | 3,428,419 | 477,752 | 16.19
Illinois | 43,545,632 | 36,086,031 | (7,459,601) | −17.13
Indiana | 19,697,136 | 16,043,006 | (3,654,130) | −18.55
Iowa | 4,750,212 | 5,519,334 | 769,122 | 16.19
Kansas | 5,930,458 | 5,248,975 | (681,483) | −11.49
Kentucky | 14,303,105 | 12,514,937 | (1,788,168) | −12.50
Louisiana | 14,009,636 | 11,269,372 | (2,740,264) | −19.56
Maine | 3,476,520 | 2,887,584 | (588,936) | −16.94
Maryland | 11,311,383 | 10,073,999 | (1,237,384) | −10.94
Massachusetts | 17,387,925 | 15,988,686 | (1,399,239) | −8.05
Michigan | 51,768,509 | 41,642,666 | (10,125,843) | −19.56
Minnesota | 14,264,509 | 11,474,392 | (2,790,117) | −19.56
Mississippi | 13,081,892 | 10,523,093 | (2,558,799) | −19.56
Missouri | 17,781,382 | 14,549,044 | (3,232,338) | −18.18
Montana | 2,344,418 | 2,174,750 | (169,668) | −7.24
Nebraska | 2,518,508 | 2,288,141 | (230,367) | −9.15
Nevada | 7,654,897 | 8,303,837 | 648,940 | 8.48
New Hampshire | 2,269,744 | 2,253,475 | (16,269) | −0.72
New Jersey | 20,938,294 | 20,362,826 | (575,468) | −2.75
New Mexico | 4,365,301 | 4,775,669 | 410,368 | 9.40
New York | 51,835,670 | 46,253,787 | (5,581,883) | −10.77
North Carolina | 25,351,154 | 24,598,968 | (752,186) | −2.97
North Dakota | 2,269,744 | 2,028,651 | (241,093) | −10.62
Ohio | 39,313,893 | 31,915,350 | (7,398,543) | −18.82
Oklahoma | 6,970,582 | 6,877,913 | (92,669) | −1.33
Oregon | 13,707,810 | 11,026,583 | (2,681,227) | −19.56
Pennsylvania | 31,871,328 | 29,506,561 | (2,364,767) | −7.42
Puerto Rico | 29,722,110 | 23,908,509 | (5,813,601) | −19.56
Rhode Island | 4,531,698 | 3,767,218 | (764,480) | −16.87
South Carolina | 17,299,897 | 13,916,063 | (3,383,834) | −19.56
South Dakota | 2,269,744 | 2,028,651 | (241,093) | −10.62
Tennessee | 18,716,506 | 16,288,215 | (2,428,291) | −12.97
Texas | 57,404,782 | 52,833,195 | (4,571,587) | −7.96
Utah | 3,547,273 | 4,121,624 | 574,351 | 16.19
Vermont | 2,269,744 | 2,028,651 | (241,093) | −10.62
Virginia | 13,127,843 | 13,540,444 | 412,601 | 3.14
Washington | 17,997,280 | 15,992,583 | (2,004,697) | −11.14
West Virginia | 3,924,261 | 4,315,932 | 391,671 | 9.98
Wisconsin | 13,963,286 | 13,099,180 | (864,106) | −6.19
Wyoming | 2,269,744 | 2,028,651 | (241,093) | −10.62
State Total | 907,897,792 | 811,460,369 | (96,437,423) | −10.62
American Samoa | 131,813 | 117,342 | (14,471) | −10.98
Guam | 1,072,924 | 955,133 | (117,791) | −10.98
Northern Marianas | 397,035 | 353,447 | (43,588) | −10.98
Palau | 75,000 | 75,000 | 0 | 0.00
Virgin Islands | 633,401 | 563,863 | (69,538) | −10.98
Outlying Areas Total | 2,310,173 | 2,064,785 | (245,388) | −10.62
Native Americans | 13,861,035 | 12,388,708 | (1,472,327) | −10.62

U.S. Department of Labor, Employment and Training Administration

Table B—WIA Adult Activities State Allotments
[Comparison of PY 2011 vs PY 2010]
State | PY 2010 (Pre-FY 2011 0.2% Rescission) | PY 2011 | Difference | Percent difference
Total | $861,540,000 | $770,921,920 | ($90,618,080) | −10.52
Alabama | 11,546,269 | 12,090,307 | 544,038 | 4.71
Alaska | 2,630,761 | 2,118,648 | (512,113) | −19.47
Arizona | 15,227,363 | 14,638,503 | (588,860) | −3.87
Arkansas | 7,946,421 | 6,399,544 | (1,546,877) | −19.47
California | 131,676,574 | 113,937,862 | (17,738,712) | −13.47
Colorado | 10,028,610 | 8,838,405 | (1,190,205) | −11.87
Connecticut | 7,899,746 | 7,208,528 | (691,218) | −8.75
Delaware | 2,148,465 | 1,922,487 | (225,978) | −10.52
District of Columbia | 2,416,917 | 2,040,921 | (375,996) | −15.56
Florida | 44,003,639 | 50,666,671 | 6,663,032 | 15.14
Georgia | 26,468,737 | 22,840,137 | (3,628,600) | −13.71
Hawaii | 2,786,714 | 2,375,218 | (411,496) | −14.77
Idaho | 2,793,005 | 3,112,389 | 319,384 | 11.44
Illinois | 40,399,352 | 33,485,477 | (6,913,875) | −17.11
Indiana | 17,396,927 | 14,120,139 | (3,276,788) | −18.84
Iowa | 3,329,069 | 3,872,586 | 543,517 | 16.33
Kansas | 4,907,309 | 4,349,496 | (557,813) | −11.37
Kentucky | 14,765,556 | 12,990,026 | (1,775,530) | −12.02
Louisiana | 13,633,150 | 10,979,275 | (2,653,875) | −19.47
Maine | 3,276,134 | 2,730,113 | (546,021) | −16.67
Maryland | 10,691,615 | 9,553,233 | (1,138,382) | −10.65
Massachusetts | 15,779,759 | 14,398,404 | (1,381,355) | −8.75
Michigan | 48,336,592 | 38,927,229 | (9,409,363) | −19.47
Minnesota | 12,498,015 | 10,065,109 | (2,432,906) | −19.47
Mississippi | 12,175,592 | 9,805,450 | (2,370,142) | −19.47
Missouri | 16,419,448 | 13,419,717 | (2,999,731) | −18.27
Montana | 2,281,343 | 2,120,862 | (160,481) | −7.03
Nebraska | 2,148,465 | 1,922,487 | (225,978) | −10.52
Nevada | 7,675,248 | 8,185,256 | 510,008 | 6.64
New Hampshire | 2,148,465 | 1,922,487 | (225,978) | −10.52
New Jersey | 20,803,661 | 20,215,513 | (588,148) | −2.83
New Mexico | 4,166,386 | 4,573,434 | 407,048 | 9.77
New York | 51,297,403 | 45,933,685 | (5,363,718) | −10.46
North Carolina | 23,389,183 | 22,906,147 | (483,036) | −2.07
North Dakota | 2,148,465 | 1,922,487 | (225,978) | −10.52
Ohio | 36,633,264 | 29,608,861 | (7,024,403) | −19.17
Oklahoma | 6,516,603 | 6,455,261 | (61,342) | −0.94
Oregon | 12,848,682 | 10,347,514 | (2,501,168) | −19.47
Pennsylvania | 29,034,229 | 26,995,920 | (2,038,309) | −7.02
Puerto Rico | 31,530,340 | 25,392,538 | (6,137,802) | −19.47
Rhode Island | 3,919,536 | 3,245,983 | (673,553) | −17.18
South Carolina | 16,317,914 | 13,141,414 | (3,176,500) | −19.47
South Dakota | 2,148,465 | 1,922,487 | (225,978) | −10.52
Tennessee | 18,105,616 | 15,820,576 | (2,285,040) | −12.62
Texas | 53,798,899 | 49,503,599 | (4,295,300) | −7.98
Utah | 2,816,695 | 3,276,560 | 459,865 | 16.33
Vermont | 2,148,465 | 1,922,487 | (225,978) | −10.52
Virginia | 11,828,202 | 12,422,005 | 593,803 | 5.02
Washington | 16,563,114 | 14,762,815 | (1,800,299) | −10.87
West Virginia | 4,058,158 | 4,403,989 | 345,831 | 8.52
Wisconsin | 11,729,145 | 11,261,887 | (467,258) | −3.98
Wyoming | 2,148,465 | 1,922,487 | (225,978) | −10.52
State Total | 859,386,150 | 768,994,615 | (90,391,535) | −10.52
American Samoa | 122,595 | 109,235 | (13,360) | −10.90
Guam | 997,885 | 889,140 | (108,745) | −10.90
Northern Marianas | 369,268 | 329,026 | (40,242) | −10.90
Palau | 75,000 | 75,000 | 0 | 0.00
Virgin Islands | 589,102 | 524,904 | (64,198) | −10.90
Outlying Areas Total | 2,153,850 | 1,927,305 | (226,545) | −10.52

Table C—U.S. Department of Labor, Employment and Training Administration WIA Dislocated Worker Activities State Allotments
[Comparison of PY 2011 vs PY 2010]
State | PY 2010 (Pre-FY 2011 0.2% Rescission) | PY 2011 | Difference | Percent difference
Total | $1,413,000,000 | $1,287,544,000 | ($125,456,000) | −8.88
Alabama | 17,669,335 | 16,128,630 | (1,540,705) | −8.72
Alaska | 2,187,095 | 1,804,590 | (382,505) | −17.49
Arizona | 22,788,184 | 21,992,101 | (796,083) | −3.49
Arkansas | 6,867,051 | 6,535,066 | (331,985) | −4.83
California | 192,413,016 | 170,303,818 | (22,109,198) | −11.49
Colorado | 14,509,305 | 13,969,269 | (540,036) | −3.72
Connecticut | 11,850,579 | 12,117,862 | 267,283 | 2.26
Delaware | 2,778,921 | 2,526,887 | (252,034) | −9.07
District of Columbia | 2,990,511 | 2,592,780 | (397,731) | −13.30
Florida | 83,019,633 | 81,270,552 | (1,749,081) | −2.11
Georgia | 40,912,792 | 35,502,366 | (5,410,426) | −13.22
Hawaii | 3,268,124 | 2,539,205 | (728,919) | −22.30
Idaho | 4,536,856 | 4,240,518 | (296,338) | −6.53
Illinois | 54,673,396 | 52,391,500 | (2,281,896) | −4.17
Indiana | 27,257,656 | 22,971,198 | (4,286,458) | −15.73
Iowa | 5,888,367 | 6,222,410 | 334,043 | 5.67
Kansas | 6,855,442 | 5,780,312 | (1,075,130) | −15.68
Kentucky | 18,089,024 | 14,985,351 | (3,103,673) | −17.16
Louisiana | 9,812,674 | 8,768,499 | (1,044,175) | −10.64
Maine | 4,578,544 | 3,599,239 | (979,305) | −21.39
Maryland | 15,543,289 | 14,302,198 | (1,241,091) | −7.98
Massachusetts | 22,706,846 | 21,065,395 | (1,641,451) | −7.23
Michigan | 64,544,036 | 51,285,260 | (13,258,776) | −20.54
Minnesota | 18,020,939 | 12,889,304 | (5,131,635) | −28.48
Mississippi | 9,867,047 | 10,150,118 | 283,071 | 2.87
Missouri | 22,223,344 | 19,187,040 | (3,036,304) | −13.66
Montana | 2,174,950 | 2,047,301 | (127,649) | −5.87
Nebraska | 2,428,300 | 2,059,689 | (368,611) | −15.18
Nevada | 14,124,712 | 14,332,064 | 207,352 | 1.47
New Hampshire | 3,181,956 | 2,764,686 | (417,270) | −13.11
New Jersey | 33,365,324 | 32,250,359 | (1,114,965) | −3.34
New Mexico | 4,093,214 | 5,179,814 | 1,086,600 | 26.55
New York | 65,534,311 | 55,889,913 | (9,644,398) | −14.72
North Carolina | 44,039,515 | 35,096,512 | (8,943,003) | −20.31
North Dakota | 690,086 | 499,920 | (190,166) | −27.56
Ohio | 51,610,221 | 44,079,882 | (7,530,339) | −14.59
Oklahoma | 6,905,534 | 6,917,377 | 11,843 | 0.17
Oregon | 20,167,658 | 15,077,317 | (5,090,341) | −25.24
Pennsylvania | 39,561,993 | 37,972,551 | (1,589,442) | −4.02
Puerto Rico | 17,054,847 | 13,696,022 | (3,358,825) | −19.69
Rhode Island | 6,227,600 | 5,104,108 | (1,123,492) | −18.04
South Carolina | 23,089,893 | 19,186,456 | (3,903,437) | −16.91
South Dakota | 1,000,388 | 840,914 | (159,474) | −15.94
Tennessee | 26,930,077 | 22,128,000 | (4,802,077) | −17.83
Texas | 61,378,563 | 62,020,936 | 642,373 | 1.05
Utah | 4,625,970 | 6,063,094 | 1,437,124 | 31.07
Vermont | 1,787,950 | 1,243,942 | (544,008) | −30.43
Virginia | 18,472,220 | 18,481,552 | 9,332 | 0.05
Washington | 24,271,171 | 22,272,901 | (1,998,270) | −8.23
West Virginia | 4,551,211 | 4,558,971 | 7,760 | 0.17
Wisconsin | 19,934,322 | 17,345,523 | (2,588,799) | −12.99
Wyoming | 786,008 | 1,201,048 | 415,040 | 52.80
State Total | 1,183,840,000 | 1,063,432,320 | (120,407,680) | −10.17
American Samoa | 201,066 | 182,437 | (18,629) | −9.27
Guam | 1,636,618 | 1,484,984 | (151,634) | −9.27
Northern Marianas | 605,632 | 549,518 | (56,114) | −9.27
Palau | 123,006 | 125,260 | 2,254 | 1.83
Virgin Islands | 966,178 | 876,661 | (89,517) | −9.27
Outlying Areas Total | 3,532,500 | 3,218,860 | (313,640) | −8.88
National Reserve | 225,627,500 | 220,892,820 | (4,734,680) | −2.10

[FR Doc. 2011-13806 Filed 6-2-11; 8:45 am]

BILLING CODE 4510-FN-P